DEPARTMENT OF COMMERCE

Bureau of Industry and Security

15 CFR Part 744

[Docket No. 181219999-8999-01]

RIN 0694-AH72

Addition of Certain Entities to the Entity List, Revision of an Entry on the Entity List, and Removal of an Entity From the Entity List

AGENCY: Bureau of Industry and Security, Commerce.

ACTION: Final rule.

SUMMARY: This final rule amends the Export Administration Regulations (EAR) by adding twelve entities, under a total of sixteen entries, to the Entity List. These twelve entities have been determined by the U.S. Government to be acting contrary to the national security or foreign policy interests of the United States and will be listed on the Entity List under the destinations of China, Hong Kong, Pakistan and the United Arab Emirates. This rule also modifies one existing entry on the Entity List under the destination of the United Arab Emirates. Finally, this rule removes one entity under the destination of the United Arab Emirates. The removal is made in connection with a request for removal that BIS received pursuant to sections of the EAR used for requesting removal or modification of an Entity List entry and a review of information provided in that request.

DATES: This rule is effective May 14, 2019.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (15 CFR, Subchapter C, part 744, Supplement No. 4) identifies entities reasonably believed to be involved, or to pose a significant risk of being or becoming involved, in activities contrary to the national security or foreign policy interests of the United States. The Export Administration Regulations (EAR) (15 CFR, Subchapter C, parts 730-774) impose additional license requirements on, and limits the availability of most license exceptions for, exports, reexports, and transfers (in-country) to listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote, and makes all decisions to remove or modify an entry by unanimous vote.

ERC Entity List Decisions

Additions to the Entity List

This rule implements the decision of the ERC to add twelve entities, under a total of sixteen entries, to the Entity List; four of the entities being added are located in two destinations. The twelve entities are being added based on § 744.11 (License requirements that apply to entities acting contrary to the national security or foreign policy interests of the United States) of the EAR. The sixteen entries consist of six entries located in China, four entries located in Hong Kong, one entry located Pakistan and five entries in the United Arab Emirates (U.A.E.).

The ERC reviewed § 744.11(b) (Criteria for revising the Entity List) in making the determination to add these twelve entities to the Entity List. Under that paragraph, persons for whom there is reasonable cause to believe, based on specific and articulable facts, that they have been involved, are involved, or pose a significant risk of being or becoming involved in activities that are contrary to the national security or foreign policy interests of the United States, along with those acting on behalf of such persons, may be added to the Entity List. Paragraphs (b)(1) through (5) of § 744.11 provide an illustrative list of activities that could be contrary to the national security or foreign policy interests of the United States. For each of the twelve entities described below, the ERC made the requisite determination under the standard set forth in § 744.11(b).

Pursuant to § 744.11(b) of the EAR, the ERC determined to add Longkui Qu and Taizhou CBM-Future New Material Science and Technology Co., Ltd., both located in China, to the Entity List for engaging in activities contrary to the national security interests of the United States. Specifically, these entities participated in the prohibited export of controlled technology concerning the manufacture of syntactic foam and supplying syntactic foam to PRC state-owned enterprises, PRC defense industrial corporations, and PRC military-related academic institutions.

The ERC also determined to add four companies—Avin Electronics Technology Co., Ltd. (AETC); Multi-Mart Electronics Technology Co, Ltd.; Tenco Technology Company Ltd.; and Yutron Technology Co. Ltd.—to the Entity List under the destinations of China and Hong Kong for actions contrary to the national security or foreign policy interests of the United States. Specifically, these entities have been attempting to procure U.S.-origin commodities that would ultimately provide material support to Iran's weapons of mass destruction and military programs, in violation of U.S. export controls.

In addition, the ERC determined to add Impex Trade & Services, located in the destination of Pakistan, to the Entity List for actions contrary to the national security or foreign policy interests of the United States. Specifically, Impex Trade & Services has been involved in proliferation to unsafeguarded nuclear activities.

Under the destination of the United Arab Emirates (U.A.E.), the ERC determined that German Sky International Trading Company LLC has been involved in activities that are contrary to the national security and foreign policy interests of the United States. Specifically, in accordance with § 744.11(b)(4), German Sky International Trading Company LLC is being added to the Entity List because it has prevented the accomplishment of end-user checks conducted by the Department of Commerce. Also under the destination of the U.A.E., the ERC has determined to add to the Entity List Emirates Hermes General Trading; Presto Freight International, LLC; Basha Asmath Shaikh; and Manohar Nair. These four entities have been involved in activities that are contrary to the national security and foreign policy interests of the United States as set forth in § 744.11(b). Emirates Hermes General Trading and Presto Freight International, LLC, operated by Basha Asmath Shaikh and Manohar Nair, procured U.S.-origin items for Complete Freight Solutions, a listed entity on the Entity List, and for Mahan Air, an Iranian airline that is subject to a BIS temporary denial order and has been designated a Specially Designated Global Terrorist by the U.S. Department of Treasury's Office of Foreign Assets Control.

Pursuant to § 744.11(b) of the EAR, the ERC determined that the conduct of these twelve entities raises sufficient concern that prior review of exports, reexports, or transfers (in-country) of all items subject to the EAR involving these entities, and the possible imposition of license conditions or license denials on shipments to the persons, will enhance BIS's ability to prevent violations of the EAR.

For the twelve entities, under a total of sixteen entries, being added to the Entity List, BIS imposes a license requirement for all items subject to the EAR and a license review policy of presumption of denial. The license requirements apply to any transaction in which items are to be exported, reexported, or transferred (in-country) to any of the entities or in which such entities act as purchaser, intermediate consignee, ultimate consignee, or end-user. In addition, no license exceptions are available for exports, reexports, or transfers (in-country) to the entities being added to the Entity List in this rule. The acronym “a.k.a.” (also known as) is used in entries on the Entity List to identify aliases, thereby assisting exporters, reexporters, and transferors in identifying entities on the Entity List.

This final rule adds the following twelve entities, under a total of sixteen entries, to the Entity List:

China

(1) Avin Electronics Technology Co., Ltd. (AETC), Room 401, Yuepeng Building, Jiabin Road, Luohu District, Shenzhen, Guangdong, China; and 1019 Jiabin Road, Luohu Qu, Shenzhen Shi, Guangdong, China (see alternate address under Hong Kong);

(2) Longkui Qu, Gucheng, Linhai, Zhejiang, China 317000; and China Jincheon Tung Cheng Jin Road, Linhai City, Zhejiang Province, #431, 317005, China;

(3) Multi-Mart Electronics Technology Co, Ltd., 5/F Blk 37A, 3 Qiaogao Road, Nanhai, Guangdong, Foshan, China (see alternate address under Hong Kong);

(4) Taizhou CBM-Future New Material Science and Technology Co., Ltd., a.k.a., the following one alias:

—CBM Future.

China Jincheon Tung Cheng Jin Road, Linhai City, Zhejiang Province #431, 317005, China;

(5) Tenco Technology Company Ltd., a.k.a., the following three aliases:

—Tenco International Co., Ltd.;

—Shenzhen Tenco Technology Co., Ltd.; and

—Shenzhen Shengfaweiye Electronic Co., Ltd.

Rm. 2709, Block A, Jiahe Huaqiang Building, Shennan Middle Rd., F Shenzhen, Guangdong 518007, China; and Room 2709, Block A, Jiahe Building, Shennan Mid Road, Futian District, Shenzhen, 518000, China (see alternate addresses under Hong Kong); and

(6) Yutron Technology Co. Ltd., Room 201-203, Building 7B, International Business Center, 1001 Honghua Road, Futian Free Trade Zone, Shenzhen, China (see alternate addresses under Hong Kong).

Hong Kong

(1) Avin Electronics Technology Co., Ltd. (AETC), 10F, Kras Asia Industrial Bldg., No. 79 Hung To Road Kwun Kowloon, Hong Kong, 999077 (see alternate addresses under China);

(2) Multi-Mart Electronics Technology Co, Ltd., 29J King Palace Plaza, 55 King Yip Street, KwunTong, Kowloon, Hong Kong (see alternate address under China);

(3) Tenco Technology Company Ltd., a.k.a., the following three aliases:

—Tenco International Co., Ltd.;

—Shenzhen Tenco Technology Co., Ltd.; and

—Shenzhen Shengfaweiye Electronic Co., Ltd.

Room 311 3F Genplas Industrial Building, 56 Hoi Yuen Road, Kwun Kowloon, Hong Kong; and Room 15, 6F Corporation Square, 8 Lam Lok Street, Kowloon Bay, Hong Kong (see alternate addresses under China); and

(4) Yutron Technology Co. Ltd., Suite B, 11/F, Foo Cheong Building, 82-86 Wing Lok Street, Sheung Wan, Hong Kong; and 24-28 5F, Topsail Plaza, 11 On Sum Street, Shaitin, Hong Kong (see alternate address under China).

Pakistan

(1) IMPEX Trade & Services, 455/A Adamjee Road, Saddar, Rawalpuindi, Pakistan.

United Arab Emirates

(1) Basha Asmath Shaikh, Office M-2, Al Andalus Bldg, Next to Shoemart Bldg, Abu Hail, Dubai, U.A.E.; and P.O. Box 29687, Dubai, U.A.E.; and P.O. Box 191252, Dubai, U.A.E.;

(2) Emirates Hermes General Trading, a.k.a. the following two aliases:

—Emirates Hermes General Trading LLC; and

—Emirates Hermes General Trading Co., Inc.

Office M-2, Al Andalus Bldg, Next to Shoemart Bldg, Abu Hail, Dubai, U.A.E.; and P.O. Box 29687, Dubai, U.A.E.; and P.O. Box 191252, Dubai, U.A.E.; and 73 Al Mina Rd., Dubai, U.A.E.; and Emirates Islamic Bank Building Al Diyafa, Dubai, U.A.E.; and P.O. Box: 29687, Office No: M-02, Al Andalus Building, Shoe-Mart Building, Next To Abu Hail Shopping Centre, Abu Hail, Dubai, U.A.E.; and 2nd of December Street 3, Office 314, Yousuf Al Otaiba Building near Al Maya Supermarket, Trade Center, 191252, Dubai, U.A.E.;

(3) German Sky International Trading Company LLC, a.k.a., the one alias:

—Civil Trading FZE.

Office No. 901, Riqqa Al Buteen Plaza, Al Maktoum Street, Dubai, UAE; and Al Maktoum Road, 9th Floor, Riqqa Al Buteen Plaza Bldg, Dubai, UAE; and P.O. Box 16111 Ras Al Khaimah, U.A.E.;

(4) Manohar Nair, a.k.a., the following one alias:

—Manoharan Nair.

Office M-2, Al Andalus Bldg, Next to Shoemart Bldg, Abu Hail, Dubai, U.A.E., and P.O. Box 29687, Dubai, U.A.E.; and P.O. Box 191252, Dubai, U.A.E.; and

(5) Presto Freight International, LLC, aka Presto Freight International LLC (PFI), Office M-2, Al Andalus Bldg, Next to Shoemart Bldg, Abu Hail, Dubai, U.A.E.; and P.O. Box 29687, Dubai, U.A.E.; and P.O. Box 191252, Dubai, U.A.E.; and P.O. Box No. 115360, Mezzanine Floor, Office No. M-02, Al Andalus Building, Above Shoe -Mart shop (Next to Abu Hail Center), Abu Hail, Dubai U.A.E.

Modification to the Entity List

This final rule implements the decision of the ERC to modify one existing entry, Modest Marking LLC, which was added to the Entity List under the destination of the United Arab Emirates on January 26, 2018 (83 FR 3580). BIS is modifying the existing entry to add an alias. This final rule makes the following modifications to one entry on the Entity List:

United Arab Emirates

(1) Modest Marketing LLC, a.k.a. the following one alias:

—Argos Composites Trading LLC.

P.O. Box 51436, Dubai, U.A.E.

Removal From the Entity List

This rule implements a decision of the ERC to remove DGL Clearing and Forwarding LLC, an entity located in the U.A.E., from the Entity List on the basis of a removal request. The entry for DGL Clearing and Forwarding LLC was added to the Entity List on January 26, 2018 (83 FR 3580). The ERC decided to remove this entry based on information BIS received pursuant to § 744.16 of the EAR and the review the ERC conducted in accordance with procedures described in Supplement No. 5 to part 744.

This final rule implements the decision to remove the following entity located in the U.A.E. from the Entity List:

United Arab Emirates

(1) DGL Clearing and Forwarding LLC, P.O. Box 94353, Abu Dhabi, U.A.E.

Savings Clause

Shipments of items removed from eligibility for a License Exception or for export or reexport without a license (NLR) as a result of this regulatory action that were en route aboard a carrier to a port of export or reexport, on May 14, 2019, pursuant to actual orders for export or reexport to a foreign destination, may proceed to that destination under the previous eligibility for a License Exception or export or NLR.

Export Control Reform Act of 2018

On August 13, 2018, the President signed into law the John S. McCain National Defense Authorization Act for Fiscal Year 2019, which included the Export Control Reform Act of 2018 (ECRA) (Title XVII, Subtitle B of Pub. L. 115-232), which provides the legal basis for BIS's principal authorities and serves as the authority under which BIS issues this rule. As set forth in § 1768 of ECRA, all delegations, rules, regulations, orders, determinations, licenses, or other forms of administrative action that have been made, issued, conducted, or allowed to become effective under the Export Administration Act of 1979 (50 U.S.C. 4601 et seq.) (as in effect prior to August 13, 2018, and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 8, 2018, 83 FR 39871 (August 13, 2018)), or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to sec. 1762 of the Export Control Reform Act of 2018 (Title XVII, Subtitle B of Pub. L. 115-232), which was included in the John S. McCain National Defense Authorization Act for Fiscal Year 2019, this action is exempt from the Administrative Procedure Act (5 U.S.C. 553) requirements for notice of proposed rulemaking, opportunity for public participation, and delay in effective date.

5. This action involves the removal of an entity from the Entity List. Removals from the Entity List involve interagency deliberation and result from review of public and non-public sources, including, where applicable, sensitive law enforcement information and classified information, and the measurement of such information against the Entity List removal criteria. This information is reviewed according to the procedures and criteria for evaluating removal requests from the Entity List, as set forth in 15 CFR 744.11, 15 CFR 744.16, and 15 CFR part 744, Supplement No. 5. For reasons of national security, BIS is not at liberty to provide to the public detailed information on which the ERC relies to make the decisions to remove these entities. In addition, the information included in a removal request is exchanged between the applicant and the ERC, which by law (sec. 1761(h) of the ECRA), BIS is restricted from sharing with the public. Moreover, removal requests from the Entity List may contain confidential business information that is necessary for the extensive review conducted by the ERC.

6. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: Pub. L. 115-232, Title XVII, Subtitle B. 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2018, 83 FR 39871 (August 13, 2018); Notice of September 19, 2018, 83 FR 47799 (September 20, 2018); Notice of November 8, 2018, 83 FR 56253 (November 9, 2019); Notice of January 16, 2019, 84 FR 127 (January 18, 2019).

2. Supplement No. 4 to part 744 is amended:

a. Under China, by adding in alphabetical order, six Chinese entities, “Avin Electronics Technology Co., Ltd. (AETC),” “Longkui Qu,” “Multi-Mart Electronics Technology Co, Ltd.,” “Taizhou CBM-Future New Material Science and Technology Co., Ltd.,” “Tenco Technology Company Ltd.” and “Yutron Technology Co. Ltd.”;

b. Under Hong Kong, by adding in alphabetical order, four Hong Kong entities, “Avin Electronics Technology Co., Ltd. (AETC),” “Multi-Mart Electronics Technology Co, Ltd.,” “Tenco Technology Company Ltd.” and “Yutron Technology Co. Ltd.”;

c. Under Pakistan, by adding in alphabetical order, one Pakistani entity, “IMPEX Trade & Services”; and

d. Under the United Arab Emirates:

i. By adding in alphabetical order, one Emirati entity, “Basha Asmath Shaikh”;

ii. By removing one Emirati entity, “DGL Clearing and Forwarding LLC, P.O. Box 94353, Abu Dhabi, U.A.E.”;

iii. By adding in alphabetical order, three Emirati entities, “Emirates Hermes General Trading”, “German Sky International Trading Company LLC,” and “Manohar Nair”;

iv. By revising Emirati entity “Modest Marketing LLC”; and

v. By adding in alphabetical order, one Emirati entity, “Presto Freight International, LLC”;

The additions and revisions read as follows:

Supplement No. 4 to Part 744—Entity List

* * * * *

Country | Entity | License requirement | License review policy | Federal Register citation
* * * * * * *
CHINA, PEOPLE'S REPUBLIC OF | * * * * * *
| Avin Electronics Technology Co., Ltd. (AETC), Room 401, Yuepeng Building, Jiabin Road, Luohu District, Shenzhen, Guangdong, China; and 1019 Jiabin Road, Luohu Qu, Shenzhen Shi, Guangdong, China (see alternate address under Hong Kong). | For all items subject to the EAR. (See § 744.11 of the EAR.) | Presumption of denial | 84 FR [INSERT FR PAGE NUMBER 05/14/2019].
| * * * * * *
| Longkui Qu, Gucheng, Linhai, Zhejiang, China 317000; and China Jincheon Tung Cheng Jin Road, Linhai City, Zhejian Province, #431, 317005, China. | For all items subject to the EAR. (See § 744.11 of the EAR.) | Presumption of denial | 84 FR [INSERT FR PAGE NUMBER 05/14/2019].
| * * * * * *
| Multi-Mart Electronics Technology Co, Ltd., S/F Blk 37A, 3 Qiaogao Road, Nanhai, Guangdong, Foshan, China (see alternate address under Hong Kong). | For all items subject to the EAR. (See § 744.11 of the EAR.) | Presumption of denial | 84 FR [INSERT FR PAGE NUMBER 05/14/2019].
| * * * * * *
| Taizhou CBM-Future New Material Science and Technology Co., Ltd., a.k.a., the following one alias: —CBM Future. China Jincheon Tung Cheng Jin Road, Linhai City, Zhejiang Province #431, 317005, China | For all items subject to the EAR. (See § 744.11 of the EAR.) | Presumption of denial | 84 FR [INSERT FR PAGE NUMBER 05/14/2019].
| * * * * * *
| Tenco Technology Company Ltd., a.k.a., the following three aliases: —Tenco International Co., Ltd.; —Shenzhen Tenco Technology Co., Ltd.; and —Shenzhen Shengfaweiye Electronic Co., Ltd. Rm. 2709, Block A, Jiahe Huaqiang Building, Shennan Middle Rd., F Shenzhen, Guangdong 518007, China; and Room 2709, Block A, Jiahe Building, Shennan Mid Road, Futian District, Shenzhen, 518000, China (see alternate addresses under Hong Kong). | For all items subject to the EAR. (See § 744.11 of the EAR.) | Presumption of denial | 84 FR [INSERT FR PAGE NUMBER 05/14/2019].
| * * * * * *
| Yutron Technology Co. Ltd., Room 201-203, Building 7B, International Business Center, 1001 Honghua Road, Futian Free Trade Zone, Shenzhen, China (see alternate addresses under Hong Kong). | For all items subject to the EAR. (See § 744.11 of the EAR.) | Presumption of denial | 84 FR [INSERT FR PAGE NUMBER 05/14/2019].
| * * * * * *
* * * * * * *
HONG KONG | * * * * * *
| Avin Electronics Technology Co., Ltd. (AETC), 10F, Kras Asia Industrial Bldg., No. 79 Hung To Road Kwun Kowloon, Hong Kong, 999077 (see alternate addresses under China). | For all items subject to the EAR. (See § 744.11 of the EAR.) | Presumption of denial | 84 FR [INSERT FR PAGE NUMBER 05/14/2019]
| * * * * * *
| Multi-Mart Electronics Technology Co, Ltd., 29J King Palace Plaza, 55 King Yip Street, Kwun Tong, Kowloon, Hong Kong (see alternate address under China). | For all items subject to the EAR. (See § 744.11 of the EAR.) | Presumption of denial | 84 FR [INSERT FR PAGE NUMBER 05/14/2019].
| * * * * * *
| Tenco Technology Company Ltd., a.k.a., the following three aliases: —Tenco International Co., Ltd.; —Shenzhen Tenco Technology Co., Ltd.; and —Shenzhen Shengfaweiye Electronic Co., Ltd. Room 311 3F Genplas Industrial Building, 56 Hoi Yuen Road, Kwun Kowloon, Hong Kong; and Room 15, 6F Corporation Square, 8 Lam Lok Street, Kowloon Bay, Hong Kong (see alternate addresses under China). | For all items subject to the EAR. (See § 744.11 of the EAR.) | Presumption of denial | 84 FR [INSERT FR PAGE NUMBER 05/14/2019].
| * * * * * *
| Yutron Technology Co. Ltd., Suite B, 11/F, Foo Cheong Building, 82-86 Wing Lok Street, Sheung Wan, Hong Kong; and 24-28 5F, Topsail Plaza, 11 On Sum Street, Shaitin, Hong Kong (see alternate address under China). | For all items subject to the EAR. (See § 744.11 of the EAR.) | Presumption of denial | 84 FR [INSERT FR PAGE NUMBER 05/14/2019].
| * * * * * *
* * * * * * *
PAKISTAN | * * * * * *
| IMPEX Trade & Services, 455/A Adamjee Road, Saddar, Rawalpuindi, Pakistan. | For all items subject to the EAR. (See § 744.11 of the EAR.) | Presumption of denial | 84 FR [INSERT FR PAGE NUMBER 05/14/2019].
| * * * * * *
* * * * * * *
UNITED ARAB EMIRATES | * * * * * *
| Basha Asmath Shaikh Office M-2, Al Andalus Bldg, Next to Shoemart Bldg, Abu Hail, Dubai, U.A.E.; and P.O. Box 29687, Dubai, U.A.E.; and P.O. Box 191252, Dubai, U.A.E. | For all items subject to the EAR. (See § 744.11 of the EAR.) | Presumption of denial | 84 FR [INSERT FR PAGE NUMBER 05/14/2019].
| * * * * * *
| Emirates Hermes General Trading, a.k.a. the following two aliases: —Emirates Hermes General Trading LLC; and —Emirates Hermes General Trading Co., Inc. Office M-2, Al Andalus Bldg, Next to Shoemart Bldg, Abu Hail, Dubai, U.A.E.; and P.O. Box 29687, Dubai, U.A.E.; and P.O. Box 191252, Dubai, U.A.E.; and 73 Al Mina Rd., Dubai, U.A.E.; and Emirates Islamic Bank Building Al Diyafa, Dubai, U.A.E.; and P.O. Box: 29687, Office No: M-02, Al Andalus Building, Shoe-Mart Building, Next To Abu Hail Shopping Centre, Abu Hail , Dubai, U.A.E.; and 2nd of December Street 3, Office 314, Yousuf Al Otaiba Building near Al Maya Supermarket, Trade Center, 191252, Dubai, U.A.E. | For all items subject to the EAR. (See § 744.11 of the EAR.) | Presumption of denial | 84 FR [INSERT FR PAGE NUMBER 05/14/2019].
| * * * * * *
| German Sky International Trading Company LLC, a.k.a., the one alias: —Civil Trading FZE Office No. 901, Riqqa Al Buteen Plaza, Al Maktoum Street, Dubai, UAE; and Al Maktoum Road, 9th Floor, Riqqa Al Buteen Plaza Bldg, Dubai, UAE; and P.O. Box 16111 Ras Al Khaimah, U.A.E. | For all items subject to the EAR. (See § 744.11 of the EAR.) | Presumption of denial | 84 FR [INSERT FR PAGE NUMBER 05/14/2019].
| * * * * * *
| Manohar Nair, a.k.a., the following one alias: —Manoharan Nair. Office M-2, Al Andalus Bldg, Next to Shoemart Bldg, Abu Hail, Dubai, U.A.E., and P.O. Box 29687, Dubai, U.A.E.; and P.O. Box 191252, Dubai, U.A.E. | For all items subject to the EAR. (See § 744.11 of the EAR.) | Presumption of denial | Insert previous citations 84 FR [INSERT FR PAGE NUMBER 05/14/2019].
| * * * * * *
| Modest Marketing LLC, a.k.a. the following one alias: —Argos Composites Trading LLC. P.O. Box 51436, Dubai, U.A.E. | For all items subject to the EAR. (See § 744.11 of the EAR.) | Presumption of denial | 83 FR 3580, 1/26/18. 84 FR [INSERT FR PAGE NUMBER 05/14/2019].
| * * * * * *
| Presto Freight International, LLC, aka Presto Freight International LLC (PFI), Office M-2, Al Andalus Bldg, Next to Shoemart Bldg, Abu Hail, Dubai, U.A.E.; and P.O. Box 29687, Dubai, U.A.E.; and P.O. Box 191252, Dubai, U.A.E.; and P.O. Box No. 115360, Mezzanine Floor, Office No. M-02, Al Andalus Building, Above Shoe-Mart shop (Next to Abu Hail Center), Abu Hail, Dubai U.A.E. | For all items subject to the EAR. (See § 744.11 of the EAR.) | Presumption of denial | 84 FR [INSERT FR PAGE NUMBER 05/14/2019].
| * * * * * *
* * * * * * *

Dated: May 9, 2019.
Richard E. Ashooh,
Assistant Secretary for Export Administration.

[FR Doc. 2019-09945 Filed 5-13-19; 8:45 am]

BILLING CODE 3510-33-P